NUCLEAR REGULATORY COMMISSION

Advisory Committee on Reactor Safeguards; Meeting Notice

In accordance with the purposes of sections 29 and 182b. of the Atomic Energy Act (42 U.S.C. 2039, 2232b), the Advisory Committee on Reactor Safeguards will hold a meeting on April 5-7, 2001, in Conference Room T-2B3, 11545 Rockville Pike, Rockville, Maryland. The date of this meeting was previously published in the Federal Register on Friday, November 17, 2000 (65 FR 69578).

Thursday, April 5, 2001

8:30 A.M.-8:35 A.M.: Opening Remarks by the ACRS Chairman (Open)—The ACRS Chairman will make opening remarks regarding the conduct of the meeting.

8:35 A.M.-10:30 A.M.: Interim Review of the License Renewal Application for Edwin I. Hatch Nuclear Plant Units 1 and 2 (Open)—The Committee will hear presentations by and hold discussions with representatives of the NRC staff and Southern Nuclear Operating Company regarding the license renewal application for Hatch Units 1 and 2, associated staff's Safety Evaluation Report (SER), selected Boiling Water Reactor Vessel and Internals Project (BWRVIP) reports and the related staff's safety evaluations.

10:50 A.M.-12:00 Noon: Proposed Final License Renewal Guidance Documents (Open)—The Committee will hear presentations by and hold discussions with representatives of the NRC staff regarding the proposed final Regulatory Guide DG-1104 and Standard Review Plan associated with license renewal, Generic Aging Lessons Learned (GALL) report, and Nuclear Energy Institute (NEI) 95-10, “Industry Guideline for Implementing the Requirements of 10 CFR Part 54—The License Renewal Rule.”

1:00 P.M.-2:30 P.M.: Safety Issues Associated with the Use of Mixed Oxide (MOX) and High-Burnup Fuels (Open)—The Committee will hear presentations by and hold discussions with representatives of the NRC staff regarding safety issues associated with the use of MOX and high-burnup fuels in commercial light water reactors.

2:50 P.M.-4:15 P.M.: Thermal-Hydraulic Issues Associated with the AP1000 Passive Plant Design (Open/Closed)—The Committee will hear presentations by and hold discussions with representatives of the NRC staff and the Westinghouse Electric Corporation regarding thermal-hydraulic issues associated with the AP1000 design. [NOTE: A portion of this session may be closed to discuss Westinghouse proprietary information applicable to this matter.]

4:15 P.M.-5:15 P.M.: Break and Preparation of Draft ACRS Reports (Open)—Cognizant ACRS members will prepare draft reports, as needed, for consideration by the full Committee.

5:15 P.M.-7:00 P.M.: Discussion of Proposed ACRS Reports (Open)—The Committee will discuss proposed ACRS reports on matters considered during this meeting.

Friday, April 6, 2001

8:30 A.M.-8:35 A.M.: Opening Remarks by the ACRS Chairman (Open)—The ACRS Chairman will make opening remarks regarding the conduct of the meeting.

8:35 A.M.-10:30 A.M.: Draft Final Safety Evaluation Report for the South Texas Project Nuclear Operating Company (STPNOC) Exemption Request (Open)—The Committee will hear presentations by and hold discussions with representatives of the NRC staff and STPNOC regarding the staff's draft Final Safety Evaluation Report for the STPNOC exemption request to exclude certain components from the scope of special treatment requirements required by NRC regulations.

10:50 A.M.-11:45 A.M.: Closure of Generic Safety Issues (GSI)-170, “Reactivity Transients and Fuel Damage Criteria for High Burnup Fuel” (Open)—The Committee will hear a report from the cognizant Subcommittee Chairman, and hold discussions with representatives of the NRC staff, as needed, regarding the closure of GSI-170.

1:00 P.M.-1:15 P.M.: Subcommittee Report (Open)—Report by the Chairman of the Materials and Metallurgy Subcommittee regarding risk-informing 10 CFR 50.46, which was discussed during a joint meeting of the ACRS Subcommittees on Materials and Metallurgy, Thermal-Hydraulic Phenomena, and Reliability and Probabilistic Assessment on March 16, 2001.

1:15 P.M.-1:45 P.M.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

1:45 P.M.-2:00 P.M.: Reconciliation of ACRS Comments and Recommendations (Open)—The Committee will discuss the responses from the NRC Executive Director for Operations (EDO) to comments and recommendations included in recent ACRS reports and letters. The EDO responses are expected to be made available to the Committee prior to the meeting.

2:00 P.M.-3:00 P.M.: Break and Preparation of Draft ACRS Reports (Open)—Cognizant ACRS members will prepare draft reports, as needed, for consideration by the full Committee.

3:00 P.M.-7:00 P.M.: Discussion of Proposed ACRS Reports (Open)—The Committee will discuss proposed ACRS reports.

Saturday, April 7, 2001

8:30 A.M.-12:30 P.M.: Proposed ACRS Reports (Open)—The Committee will continue its discussion of proposed ACRS reports.

12:30 P.M.-1:00 P.M.: Miscellaneous (Open)—The Committee will discuss matters related to the conduct of Committee activities and matters and specific issues that were not completed during previous meetings, as time and availability of information permit.

Procedures for the conduct of and participation in ACRS meetings were published in the Federal Register on October 11, 2000 (65 FR 60476). In accordance with these procedures, oral or written views may be presented by members of the public, including representatives of the nuclear industry. Electronic recordings will be permitted only during the open portions of the meeting and questions may be asked only by members of the Committee, its consultants, and staff. Persons desiring to make oral statements should notify Mr. James E. Lyons, ACRS, five days before the meeting, if possible, so that appropriate arrangements can be made to allow necessary time during the meeting for such statements. Use of still, motion picture, and television cameras during the meeting may be limited to selected portions of the meeting as determined by the Chairman. Information regarding the time to be set aside for this purpose may be obtained by contacting Mr. James E. Lyons prior to the meeting. In view of the possibility that the schedule for ACRS meetings may be adjusted by the Chairman as necessary to facilitate the conduct of the meeting, persons planning to attend should check with Mr. James E. Lyons if such rescheduling would result in major inconvenience.

In accordance with Subsection 10(d) P.L. 92-463, I have determined that it is necessary to close a portion of this meeting noted above to discuss Westinghouse proprietary information per 5 U.S.C. 552b(c)(4).

Further information regarding topics to be discussed, whether the meeting has been canceled or rescheduled, the Chairman's ruling on requests for the opportunity to present oral statements, and the time allotted therefor can be obtained by contacting Mr. James E. Lyons (telephone 301-415-7371), between 7:30 a.m. and 4:l5 p.m., EST.

ACRS meeting agenda, meeting transcripts, and letter reports are available for downloading or viewing on the internet at http://www.nrc.gov/ACRSACNW.

Videoteleconferencing service is available for observing open sessions of ACRS meetings. Those wishing to use this service for observing ACRS meetings should contact Mr. Theron Brown, ACRS Audio Visual Technician (301-415-8066), between 7:30 a.m. and 3:45 p.m., EST, at least 10 days before the meeting to ensure the availability of this service. Individuals or organizations requesting this service will be responsible for telephone line charges and for providing the equipment facilities that they use to establish the videoteleconferencing link. The availability of videoteleconferencing services is not guaranteed.

Dated: March 8, 2001.
Andrew L. Bates,
Advisory Committee Management Officer.

[FR Doc. 01-6302 Filed 3-13-01; 8:45 am]

BILLING CODE 7590-01-P